NUCLEAR REGULATORY COMMISSION

[Docket No. 52-009-ESP; ASLBP No. 04-823-03-ESP]

Atomic Safety and Licensing Board; Before Administrative Judges: Lawrence G. McDade, Chairman, Nicholas G. Trikouros, Dr. Richard E. Wardwell; in the Matter of System Energy Resources, Inc.; Early Site Permit for Grand Gulf Site; Revised Notice of Hearing

October 31, 2006.

On October 6, 2006, this Atomic Safety and Licensing Board issued a Notice of Hearing,¹ which indicated that an evidentiary session would be convened beginning on Tuesday, November 14, 2006, to receive testimony and exhibits in the “mandatory hearing” portion of this proceeding regarding the October 16, 2003, application of System Energy Resources, Inc. (SERI) for a 10 CFR Part 52 early site permit (ESP), seeking approval of the site of the existing Grand Gulf Nuclear Station (GGNS) near Port Gibson in Claiborne County, Mississippi, for the possible future construction of a new nuclear power generation facility.² This mandatory hearing will concern safety and environmental matters relating to the proposed issuance of the requested ESP, as described in our October 6 Notice. The Board hereby gives notice that the mandatory hearing will now begin on Wednesday, November 29, 2006, and will continue day-to-day thereafter until concluded.

¹ See 71 FR 60,583 (Oct. 13, 2006).

² See 69 FR 2636 (Jan. 16, 2004).

A. Date, Time, and Location of Mandatory Hearing

Date: Wednesday, November 29, 2006.

Time: Beginning at 9 a.m. EST.

Location: ASLBP Hearing Room, Two White Flint North, Third Floor, 11545 Rockville Pike, Rockville, Maryland 20852-2738.

Any members of the public who plan to attend the mandatory hearing are advised that security measures will be employed at the entrance to the hearing facility, including searches of hand-carried items such as briefcases or backpacks. The public is further advised that, in accordance with 10 CFR 2.390, portions of the hearing sessions may be closed to the public because the matters at issue may involve the discussion of protected information.

B. Scheduling Information Updates

Updated/revised scheduling information regarding the evidentiary hearing can be found on the NRC Web site at http://www.nrc.gov/public-involve/public-meetings/index.cfm or by calling (800) 368-5642, extension 5036, or (301) 415-5036.

It is so ordered.

³ Copies of this Notice were sent this date by Internet e-mail transmission to counsel for (1) SERI; and (2) the NRC Staff.

Dated: Rockville, Maryland, October 31, 2006.
For the Atomic Safety and Licensing Board.³
Lawrence G. McDade,
Chairman, Administrative Judge.

[FR Doc. 06-9075 Filed 11-3-06; 8:45 am]

BILLING CODE 7590-01-P